DEPARTMENT OF THE INTERIOR

Geological Survey

[USGS GX11GK009970000]

Proposed Information Collection; Comment Request for the Landslide Report: Did You See It?

AGENCY: United States Geological Survey (USGS), Interior.

ACTION: Notice; request for comments.

SUMMARY: We (the U.S. Geological Survey) will ask the Office of Management and Budget (OMB) to approve the information collection request (ICR) for the USGS Landslide Hazards Program's Landslide Report: Did You See It? As required by the Paperwork Reduction Act (PRA) of 1995, and as part of our continuing efforts to reduce paperwork and respondent burden, we invite the general public and other Federal agencies to take this opportunity to comment on this ICR. We may not conduct or sponsor and a person is not required to respond to a collection of information unless it displays a currently valid OMB control number.

DATES: You must submit comments on or before September 15, 2011.

ADDRESSES: Please submit written comments on this ICR to the OMB Office of Information and Regulatory Affairs, Attention: Desk Officer for the Department of the Interior via e-mail to oira_docket@omb.eop.gov or fax at 202-395-5806; and reference Information Collection 1028-NEW (DYSI) in the subject line. Please also submit a copy of your comments to the USGS, Information Collection Office, U.S. Geological Survey, 12201 Sunrise Valley Drive, Reston, VA 20192. Please reference Information Collection 1028-NEW (DYSI) in the subject line.

FOR FURTHER INFORMATION CONTACT: Rex Baum by mail at U.S. Geological Survey, Denver Federal Center, Box 25046, M.S. 966, Denver, CO 80225-0046, or by telephone at 303-273-8610. To see a copy of the entire ICR submitted to OMB, go to http://www.reginfo.gov (Information Collection Review, Currently under Review).

SUPPLEMENTARY INFORMATION:

I. Abstract

The objective of this collection is to build better inventories of landslides through citizen participation. This project will make it possible for the public to report their observations of landslides on a USGS-based Web site. The information gathered through the on-line database will be used to classify the landslides and damage, as well as provide information to scientists about the location, time, speed, and size of the landslides. The USGS Landslide Hazards Program will develop an interactive Web site for public reporting of landslides that will be patterned after the USGS Earthquake Program's successful “Did you feel it?” Web site for collecting reports of earthquakes.

II. Data

OMB Control Number: 1028-NEW.

Title: Landslide Report: Did You See It?

Type of Request: New.

Affected Public: General public.

Respondent's Obligation: Voluntary.

Frequency of Collection: On occasion, after a landslide.

Estimated Annual Number of Respondents: 2,000.

Estimated Total Annual Burden Hours: 167.

III. Request for Comments

On December 9, 2010 we published a Federal Register notice (75 FR 76752) announcing that we would submit this ICR to OMB for approval and soliciting comments. The comment period closed on February 18, 2011. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: August 10, 2011.
Peter T. Lyttle,
Coordinator, National Cooperative Geologic Mapping and Landslide Hazards Programs.

[FR Doc. 2011-20823 Filed 8-15-11; 8:45 am]

BILLING CODE 4311-AM-P